Title 3—

The President

Proclamation 9383 of December 21, 2015

To Take Certain Actions Under the African Growth and Opportunity Act and for Other Purposes

By the President of the United States of America

A Proclamation

1. In Proclamation 7970 of December 22, 2005, the President designated the Republic of Burundi (Burundi) as a beneficiary sub-Saharan African country for purposes of section 506A(a)(1) of the Trade Act of 1974 (the “1974 Act”) (19 U.S.C. 2466a(a)(1)), as added by section 111(a) of the African Growth and Opportunity Act (AGOA) (title I of Public Law 106-200).

2. Section 506A(a)(3) of the 1974 Act (19 U.S.C. 2466a(a)(3)), authorizes the President to terminate the designation of a country as a beneficiary sub-Saharan African country for purposes of section 506A, if he determines that the country is not making continual progress in meeting the requirements described in section 506A(a)(1) of the 1974 Act.

3. Pursuant to section 506A(a)(3) of the 1974 Act, I have determined that Burundi is not making continual progress in meeting the requirements described in section 506A(a)(1) of the 1974 Act. Accordingly, I have decided to terminate the designation of Burundi as a beneficiary sub-Saharan African country for purposes of section 506A of the 1974 Act, effective on January 1, 2016.

4. Schedule XX, as defined by 19 U.S.C. 3501(5), sets forth certain tariff-rate quotas. To implement these tariff-rate quotas, section 404(a) of the Uruguay Round Agreements Act (19 U.S.C. 3601(a)) requires the President “to take such action as may be necessary to ensure that imports of agricultural products do not disrupt the orderly marketing of commodities in the United States.”

5. I have determined that, in order to reduce administrative burden and encourage electronic administration of the quota classifications of sugars, syrups, and molasses (sugar), and to avoid the disruption of the orderly marketing of sugar, it is necessary to add additional tariff lines to Chapter 99 of the Harmonized Tariff Schedule (HTS) of the United States as provided for in Annex I of this proclamation.

6. Presidential Proclamation 8294 of September 26, 2008, implemented amendments to the Burmese Freedom and Democracy Act of 2003 (the “BFDA”) (Public Law 108-61), as amended by section 6(a) of the Tom Lantos Block Burmese JADE Act of 2008 (Public Law 110-286). That proclamation, in part, modified the HTS to include additional U.S. Note 4 to chapter 71 of the HTS, which prohibited the importation of certain goods of Burma. The BFDA, as amended, expired on July 28, 2013.

7. Executive Order 13651 of August 6, 2013, as authorized by the International Emergency Economic Powers Act (50 U.S.C. 1701 et seq.) and the National Emergencies Act (50 U.S.C. 1601 et seq.), prohibits the importation into the United States of any jadeite or rubies mined or extracted from Burma and any articles of jewelry containing jadeite or rubies mined or extracted from Burma on or after August 7, 2013. I have determined that modifications to additional U.S. Note 4 to chapter 71 of the HTS, as set forth in Annex II, are necessary to account for the expiration of the BFDA and the implementation of Executive Order 13651.

8. On April 22, 1985, the United States and Israel entered into the Agreement on the Establishment of a Free Trade Area between the Government of the United States of America and the Government of Israel (USIFTA), which the Congress approved in the United States-Israel Free Trade Area Implementation Act of 1985 (the “USIFTA Act”) (19 U.S.C. 2112 note).

9. Section 4(b) of the USIFTA Act provides that, whenever the President determines that it is necessary to maintain the general level of reciprocal and mutually advantageous concessions with respect to Israel provided for by the USIFTA, the President may proclaim such withdrawal, suspension, modification, or continuance of any duty, or such continuance of existing duty-free or excise treatment, or such additional duties, as the President determines to be required or appropriate to carry out the USIFTA.

10. In order to maintain the general level of reciprocal and mutually advantageous concessions with respect to agricultural trade with Israel, on July 27, 2004, the United States entered into an agreement with Israel concerning certain aspects of trade in agricultural products during the period January 1, 2004, through December 31, 2008 (the “2004 Agreement”).

11. In Proclamation 7826 of October 4, 2004, consistent with the 2004 Agreement, the President determined, pursuant to section 4(b) of the USIFTA Act, that, in order to maintain the general level of reciprocal and mutually advantageous concessions with respect to Israel provided for by the USIFTA, it was necessary to provide duty-free access into the United States through December 31, 2008, for specified quantities of certain agricultural products of Israel.

12. Each year from 2008 through 2014, the United States and Israel entered into agreements to extend the period that the 2004 Agreement was in force for 1-year periods to allow additional time for the two governments to conclude an agreement to replace the 2004 Agreement.

13. To carry out the extension agreements, the President in Proclamation 8334 of December 31, 2008; Proclamation 8467 of December 23, 2009; Proclamation 8618 of December 21, 2010; Proclamation 8770 of December 29, 2011; Proclamation 8921 of December 20, 2012; Proclamation 9072 of December 23, 2013; and Proclamation 9223 of December 23, 2014, modified the HTS to provide duty-free access into the United States for specified quantities of certain agricultural products of Israel, each time for an additional 1-year period.

14. On December 8, 2015, the United States entered into an agreement with Israel to extend the period that the 2004 Agreement is in force through December 31, 2016, to allow for further negotiations on an agreement to replace the 2004 Agreement.

15. Pursuant to section 4(b) of the USIFTA Act, I have determined that it is necessary, in order to maintain the general level of reciprocal and mutually advantageous concessions with respect to Israel provided for by the USIFTA, to provide duty-free access into the United States through the close of December 31, 2016, for specified quantities of certain agricultural products of Israel.

16. In Presidential Proclamation 8921 of December 20, 2012, pursuant to section 502(e) of the 1974 Act (19 U.S.C. 2462(e)), I determined that The Federation of Saint Kitts and Nevis had become a high-income country and terminated its designation as a beneficiary developing country for purposes of the Generalized System of Preferences (GSP). General note 4(a) to the HTS erroneously continues to include “St. Kitts and Nevis” on the list of Member Countries of the Caribbean Common Market (CARICOM) that are eligible for preferential tariff treatment under the GSP. I have determined that a modification to the HTS is necessary to correct this error and to provide the intended tariff treatment.

17. Presidential Proclamation 8894 of October 29, 2012, implemented the United States-Panama Trade Promotion Agreement with respect to the United States and, pursuant to the United States-Panama Trade Promotion Agreement Implementation Act (Public Law 112-43, 125 Stat. 497), modified the HTS to include the schedule of duty reductions necessary or appropriate to carry out the United States-Panama Trade Promotion Agreement. Those modifications to the HTS were set out in Publication 4349 of the International Trade Commission (Commission), entitled Modifications to the Harmonized Tariff Schedule of the United States to Implement the United States-Panama Trade Promotion Agreement, which was incorporated by reference into Proclamation 8894. Annexes I and II to that publication included technical errors that affected the tariff treatment accorded to certain goods of Panama. I have determined that modifications to the HTS are necessary to correct the technical errors.

18. Presidential Proclamation 8818 of May 14, 2012, implemented the United States-Colombia Trade Promotion Agreement with respect to the United States and, pursuant to the United States-Colombia Trade Promotion Agreement Implementation Act (Public Law 112-42, 125 Stat. 462), modified the HTS to include the schedule of duty reductions necessary or appropriate to carry out the United States-Colombia Trade Promotion Agreement. Those modifications to the HTS were set out in Publication 4320 of the Commission, entitled Modifications to the Harmonized Tariff Schedule of the United States to Implement the United States-Colombia Trade Promotion Agreement, which was incorporated by reference into Proclamation 8818. Annex II to that publication included a technical error that affected the tariff treatment accorded to certain goods of Colombia. I have determined that modifications to the HTS are necessary to correct the technical error.

19. Presidential Proclamation 8039 of July 27, 2006, implemented the United States-Bahrain Free Trade Agreement with respect to the United States and, pursuant to the United States-Bahrain Free Trade Agreement Implementation Act (Public Law 109-169, 119 Stat. 3581), modified the HTS to include the schedule of duty reductions necessary or appropriate to carry out the United States-Bahrain Free Trade Agreement. Those modifications to the HTS were set out in Publication 3830 of the Commission, entitled Modifications to the Harmonized Tariff Schedule of the United States to Implement the United States-Bahrain Free Trade Agreement, which was incorporated by reference into Proclamation 8039. Presidential Proclamation 9223 of December 23, 2014, created a new subheading in chapter 29 of the HTS, but inadvertently omitted the tariff treatment for goods of Bahrain previously accorded to these covered goods under Proclamation 8039. I have determined that modifications to the HTS are necessary to correct the technical error.

20. Presidential Proclamation 8783 of March 6, 2012, implemented the United States-Korea Free Trade Agreement and, pursuant to the United States-Korea Free Trade Agreement Implementation Act (Public Law 112-41, 125 Stat. 428), modified the HTS to include the schedule of duty reductions necessary or appropriate to carry out the United States-Korea Free Trade Agreement. Those modifications to the HTS were set out in Publication 4308 of the Commission, entitled Modifications to the Harmonized Tariff Schedule of the United States to Implement the United States-Korea Free Trade Agreement, which was incorporated by reference into Proclamation 8783. Annex II to Publication 4308 incorrectly stated certain staged reductions in rates of duty for originating goods of Korea classified in chapter 17 of the HTS. I have determined that modifications to the HTS are necessary to correct the technical errors.

21. Section 604 of the 1974 Act (19 U.S.C. 2483) authorizes the President to embody in the HTS the substance of the relevant provisions of that Act, and of other acts affecting import treatment, and actions thereunder, including the removal, modification, continuation, or imposition of any rate of duty or other import restriction.

NOW, THEREFORE, I, BARACK OBAMA, President of the United States of America, by virtue of the authority vested in me by the Constitution and the laws of the United States of America, including but not limited to section 506A(a)(3) of the 1974 Act, 19 U.S.C. 3601(a), 50 U.S.C. 1701 et seq., 50 U.S.C. 1601 et seq., section 4(b) of the USIFTA Act, section 502(e) of the 1974 Act, the United States-Panama Trade Promotion Agreement Implementation Act, the United States-Colombia Trade Promotion Agreement Implementation Act, the United States-Bahrain Free Trade Agreement Implementation Act, the United States-Korea Free Trade Agreement Implementation Act, and section 604 of the 1974 Act, do proclaim that:

(1) The designation of Burundi as a beneficiary sub-Saharan African country for purposes of section 506A of the 1974 Act is terminated, effective on January 1, 2016.

(2) In order to reflect in the HTS that beginning on January 1, 2016, Burundi shall no longer be designated as a beneficiary sub-Saharan African country, general note 16(a) to the HTS is modified by deleting “Republic of Burundi” from the list of beneficiary sub-Saharan African countries.

(3) In order to ensure that imports of sugar do not disrupt the orderly marketing of commodities in the United States, the HTS is modified as set forth in Annex I to this proclamation.

(4) In order to implement Executive Order 13651 of August 6, 2013, as authorized by the International Emergency Economic Powers Act and the National Emergencies Act, the HTS is modified as provided in Annex II to this proclamation.

(5) In order to implement U.S. tariff commitments under the 2004 Agreement through December 31, 2016, the HTS is modified as provided in Annex III to this proclamation.

(6)(a) The modifications to the HTS set forth in Annex III to this proclamation shall be effective with respect to eligible agricultural products of Israel that are entered, or withdrawn from warehouse for consumption, on or after January 1, 2016.

(b) The provisions of subchapter VII of chapter 99 of the HTS, as modified by Annex III to this proclamation, shall continue in effect through December 31, 2016.

(7) In order to make technical corrections necessary to provide the intended tariff treatment to goods of St. Kitts and Nevis in accordance with Presidential Proclamation 8921 of December 20, 2012, the HTS is modified as set forth in Annex IV to this proclamation.

(8) In order to make technical corrections necessary to provide the intended tariff treatment to goods of Panama in accordance with Presidential Proclamation 8894 of October 29, 2012, the HTS is modified as set forth in Annex IV to this proclamation.

(9) In order to make technical corrections necessary to provide the intended tariff treatment to goods of Colombia in accordance with Presidential Proclamation 8818 of May 14, 2012, the HTS is modified as set forth in Annex IV to this proclamation.

(10) In order to make technical corrections necessary to provide the intended tariff treatment to goods of Bahrain in accordance with Presidential Proclamation 8039 of July 27, 2006, the HTS is modified as set forth in Annex IV to this proclamation.

(11) In order to make technical corrections necessary to provide the intended tariff treatment to goods of Korea in accordance with Presidential Proclamation 8783 of March 6, 2012, the HTS is modified as set forth in Annex IV to this proclamation.

(12) Any provisions of previous proclamations and Executive Orders that are inconsistent with the actions taken in this proclamation are superseded to the extent of such inconsistency.

IN WITNESS WHEREOF, I have hereunto set my hand this twenty-first day of December, in the year of our Lord two thousand fifteen, and of the Independence of the United States of America the two hundred and fortieth.

Billing code 3295-F6-P

[FR Doc. 2015-32679

Filed 12-23-15; 11:15 am]

Billing code 7020-02-C